FEDERAL ACCOUNTING STANDARDS ADVISORY BOARD

Notice of Meeting Schedule for 2016

AGENCY: Federal Accounting Standards Advisory Board.

ACTION: Notice.

Board Action: Pursuant to 31 U.S.C. 3511(d), the Federal Advisory Committee Act (Pub. L. 92-463), as amended, and the FASAB Rules of Procedure, as amended in October 2010, notice is hereby given that the Federal Accounting Standards Advisory Board (FASAB) will meet on the following dates in room 7C13 of the U.S. Government Accountability Office (GAO) Building (441 G St. NW., Washington, DC) unless otherwise noted:

—Wednesday and Thursday, February 24 and 25, 2016

—Wednesday and Thursday, April 27 and 28, 2016

—Wednesday and Thursday, June 29 and 30, 2016

—Wednesday and Thursday, August 24 and 25, 2016

—Wednesday and Thursday, October 19 and 20, 2016

—Wednesday and Thursday, December 19 and 20, 2016

The purpose of the meetings is to discuss issues related to:

—Leases.

—Public-Private Partnerships,

—Reporting Model,

—Risk Assumed,

—Tax Expenditures, and

—Any other topics as needed.

Any interested person may attend the meetings as an observer. Board discussion and reviews are open to the public. GAO Building security requires advance notice of your attendance. Please notify FASAB of your planned attendance by calling 202-512-7350 at least two days prior to the respective meeting.

FOR FURTHER INFORMATION CONTACT: Wendy Payne, Executive Director, at 202-512-7350.

Authority: Federal Advisory Committee Act, Pub. L. 92-463.

Dated: December 1, 2015.
Wendy Payne,
Executive Director, Federal Accounting Standards Advisory Board.

[FR Doc. 2015-30782 Filed 12-4-15; 8:45 am]

BILLING CODE 1610-01-P